DEPARTMENT OF ENERGY

Federal Energy Regulatory Commission

[Docket No. ER98-441-024, et al.]

Geysers Power Company, LLC, et al.; Electric Rate and Corporate Regulation Filings

December 1, 2000.

Take notice that the following filings have been made with the Commission:

1. Geysers Power Company, LLC

[Docket No. ER98-441-024]

Take notice that on November 27, 2000, Geysers Power Company, LLC (Geysers Power), tendered for filing its revised Must-Run Service Agreement under which Geysers Power provides reliability must-run services to the California Independent System Operator Corporation (ISO) from the Geysers Main Units. This filing is made in compliance with the Federal Energy Regulatory Commission's (Commission) letter order dated October 26, 2000, Southern California Edison Co., et al., 93 FERC ¶ 61,089 (2000) (Settlement Order), approving a settlement among Geysers Power, the ISO and others (Settlement), Cabrillo Power I LLC, Cabrillo Power II LLC, Duke Energy Moss Landing LLC, Duke Energy Oakland LLC, Duke Energy South Bay LLC, El Segundo Power, LLC, Pacific Gas and Electric Company, Reliant Energy Etiwanda, LLC, Reliant Energy Mandalay, LLC, Southern Energy Delta, L.L.C., Southern Energy Potrero, L.L.C., Williams Energy Marketing and Trading Company, San Diego Gas & Electric Company, the California Electricity Oversight Board and Southern California Edison Company (Settlement).

As recognized in the Settlement Order, Geysers Power joined the Settlement as to the resolution of issues pertaining to billing and invoicing only. Therefore, this filing reflects substantive revisions only to Article 9 and to related definitions of Geysers Power's currently effective Must-Run Service Agreement. Geysers Power also reports that it owes no refunds as a result of the Settlement.

Comment date: December 18, 2000, in accordance with Standard Paragraph E at the end of this notice.

2. FirstEnergy Services, Inc.

[Docket No. ER01-103-001]

Take notice that on November 28, 2000, FirstEnergy Services, Inc. (Services), tendered for filing pursuant to Section 205 of the Federal Power Act and the Federal Energy Regulatory Commission's regulations thereunder a revised Market-Based Rate Power Sales Tariff for wholesale electricity sales to become effective upon consummation of the merger of Services and FirstEnergy Trading Services, Inc.

Comment date: December 19, 2000, in accordance with Standard Paragraph E at the end of this notice.

3. Sierra Pacific Power Company

[Docket No. ER01-409-001]

Take notice that on November 28, 2000, Sierra Pacific Power Company (Sierra) tendered for filing with the Commission a Service Agreement for Short-Term Firm Point-to-Point Transmission Service with Morgan Stanley Capital Group Inc. The Agreement with Morgan Stanley Capital Group Inc., was referenced in Sierra's filing letter dated November 8, 2000, in the above referenced docket but was not attached thereto.

Copies of this filing were served upon the Public Utilities Commission of Nevada, the Public Utilities Commission of California and all interested parties.

Comment date: December 19, 2000, in accordance with Standard Paragraph E at the end of this notice.

4. New York Independent System Operator, Inc.

[Docket No. ER01-512-000]

Take notice that on November 27, 2000, the Members of the Transmission Owners Committee of the Energy Association of New York State, formerly known as the Member Systems of the New York Power Pool (Member Systems), tendered for filing revised transmission service agreements. The Member Systems state that these tariff sheets are in compliance with the Commission's October 26, 2000 order in this proceeding. Central Hudson Gas & Electric Corp., et al., 93 FERC ¶ 61,091 (2000).

A copy of this filing was served upon all persons on the official service list in the captioned proceeding.

Comment date: December 18, 2000, in accordance with Standard Paragraph E at the end of this notice.

5. American Transmission Company LLC

[Docket No. ER01-514-000]

Take notice that on November 27, 2000, American Transmission Company LLC (ATCLLC), tendered for filing service agreements for firm and non-firm point-to-point transmission service for the following customers under ATCLLC's Open Access Tariff.

PEPCO Energy Company

LG&E Energy Marketing, Inc.

Madison Gas & Electric Company

Wisconsin Electric Power Company

Wisconsin Public Service Corporation

ATCLLC requests an effective date of January 1, 2001.

Comment date: December 18, 2000, in accordance with Standard Paragraph E at the end of this notice.

6. Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P., Sithe Power Marketing, Inc.

[Docket No. ER01-513-000]

Take notice that on November 27, 2000, Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P. and Sithe Power Marketing, Inc. (the Sithe Jurisdictional Affiliates), tendered for filing an Application For Authorization To Remove Prohibition On Inter-Affiliate Sales, Cancel Codes Of Conduct And For Expedited Action.

Comment date: December 28, 2000, in accordance with Standard Paragraph E at the end of this notice.

7. Avista Corp.

[Docket No. ER01-516-000]

Take notice that on November 27, 2000, Avista Corp. (AVA), tendered for filing with the Federal Energy Regulatory Commission executed Service Agreements for Short-Term Firm and Non-Firm Point-To-Point Transmission Service under AVA's Open Access Transmission Tariff—FERC Electric Tariff, Volume No. 8 with Sacramento Municipal Utility District (SMUD).

AVA requests the Service Agreements be given a respective effective date of November 13, 2000.

Comment date: December 18, 2000, in accordance with Standard Paragraph E at the end of this notice.

8. Boston Edison Company

[Docket No. ER01-515-000]

Take notice that on November 27, 2000, Boston Edison Company (Boston Edison), tendered for filing a local network integration transmission service agreement between Boston Edison and ANP Blackstone Energy Company (ANP Blackstone). Boston Edison states that the service agreement sets out the transmission arrangements under which Boston Edison will provide local network integration transmission service to ANP Blackstone under Boston Edison's open access transmission tariff accepted for filing in Docket No. ER00-2065-000.

Boston Edison requests waiver of the Commission's thirty (30) day notice requirement in order to allow the service agreement to become effective on October 1, 2000.

Comment date: December 18, 2000, in accordance with Standard Paragraph E at the end of this notice.

9. Northern Indiana Public Service Company

[Docket No. ER01-518-000]

Take notice that on November 28, 2000, Northern Indiana Public Service Company tendered for filing an executed Standard Transmission Service Agreement for Non-Firm Point-to-Point Transmission Service between Northern Indiana Public Service Company and Alliance Energy Services Partnership (Alliance).

Under the Transmission Service Agreement, Northern Indiana Public Service Company will provide Point-to-Point Transmission Service to Alliance pursuant to the Transmission Service Tariff filed by Northern Indiana Public Service Company in Docket No. OA96-47-000 and allowed to become effective by the Commission.

Northern Indiana Public Service Company has requested that the Service Agreement be allowed to become effective as of November 29, 2000.

Copies of this filing have been sent to Alliance Energy Services Partnership, the Indiana Utility Regulatory Commission, and the Indiana Office of Utility Consumer Counselor.

Comment date: December 19, 2000, in accordance with Standard Paragraph E at the end of this notice.

10. Northern Indiana Public Service Company

[Docket No. ER01-519-000]

Take notice that on November 28, 2000, Northern Indiana Public Service Company tendered for filing an executed Standard Transmission Service Agreement for Non-Firm Point-to-Point Transmission Service between Northern Indiana Public Service Company and MidAmerican Energy Company (MECR).

Under the Transmission Service Agreement, Northern Indiana Public Service Company will provide Point-to-Point Transmission Service to MECR pursuant to the Transmission Service Tariff filed by Northern Indiana Public Service Company in Docket No. OA96-47-000 and allowed to become effective by the Commission.

Northern Indiana Public Service Company has requested that the Service Agreement be allowed to become effective as of November 29, 2000.

Copies of this filing have been sent to MidAmerican Energy Company, the Indiana Utility Regulatory Commission, and the Indiana Office of Utility Consumer Counselor.

Comment date: December 19, 2000, in accordance with Standard Paragraph E at the end of this notice.

11. Covert Generating Company, LLC

[Docket No. ER01-520-000]

Take notice that on November 28, 2000, Covert Generating Company, LLC (Covert), tendered for filing pursuant to Section 205 of the Federal Power Act, and Part 35 of the Commission's Regulations, a petition for authorization to make sales of capacity, energy, and certain Ancillary Services at market-based rates, to reassign transmission capacity, and to resell Firm Transmission Rights. Covert proposes to construct a natural gas-fired, combined cycle power plant of approximately 1,200 MW capacity in Covert Township, Van Buren County, Michigan.

Comment date: December 19, 2000, in accordance with Standard Paragraph E at the end of this notice.

12. American Transmission Company LLC

[Docket No. ER01-521-000]

Take notice that on November 28, 2000, American Transmission Company LLC (ATCLLC), tendered for filing a Generation-Transmission Interconnection Agreement between ATCLLC and Wisconsin Public Service Corporation.

ATCLLC requests an effective date of January 1, 2001.

Comment date: December 19, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-31278 Filed 12-7-00; 8:45 am]

BILLING CODE 6717-01-P